DEPARTMENT OF COMMERCE

National Oceanic and Atmospheric Administration

RIN 0648-XG623

Pacific Fishery Management Council; Public Meetings and Hearings

AGENCY: National Marine Fisheries Service (NMFS), National Oceanic and Atmospheric Administration (NOAA), Commerce.

ACTION: Notice of opportunities to submit public comments.

SUMMARY: The Pacific Fishery Management Council (Pacific Council) has begun its annual preseason management process for the 2019 ocean salmon fisheries off the U.S. West Coast. This notice informs the public of opportunities to provide comments on the development of 2019 ocean salmon management measures.

DATES: Written comments on the salmon management alternatives adopted by the Pacific Council at its March 2019 meeting, as described in its Preseason Report II, received electronically or in hard copy by 5 p.m. Pacific Time, April 1, 2019, will be considered in the Pacific Council's final recommendation for the 2019 management measures.

ADDRESSES: Documents will be available from the Pacific Fishery Management Council, 7700 NE Ambassador Place, Suite 101, Portland, OR 97220-1384, and will be posted on the Pacific Council website at http://www.pcouncil.org. You may submit comments by any one of the following methods:

• Written comments should be sent electronically to Mr. Phil Anderson, Chair, Pacific Fishery Management Council, via the Pacific Council's E-Portal by visiting https://pfmc.psmfc.org.

• Comments can also be submitted to NMFS via the Federal e-Rulemaking Portal. Go to http://www.regulations.gov/#!docketDetail;D=NOAA-NMFS-2018-0128, click the “Comment Now!” icon, complete the required fields, and enter or attach your comments. All comments received via the Federal e-Rulemaking Portal are a part of the public record and will generally be posted for public viewing on http://www.regulations.gov without change. All personal identifying information (e.g., name, address, etc.), confidential business information, or otherwise sensitive information submitted voluntarily by the sender will be publicly accessible. NMFS and the Pacific Council will accept anonymous comments (enter “N/A” in the required fields if you wish to remain anonymous).

• Mail: Mr. Phil Anderson, Chair, Pacific Fishery Management Council, 7700 NE Ambassador Place, Suite 101, Portland, OR 97220-1384. Comments submitted by mail will be entered into the Pacific Council's E-Portal by Pacific Council Staff.

FOR FURTHER INFORMATION CONTACT: Ms. Robin Ehlke, Pacific Council, telephone: 503-820-2280. For information on submitting comments via the Federal e-Rulemaking portal, contact Peggy Mundy, NMFS West Coast Region, telephone: 206-526-4323; email: peggy.mundy@noaa.gov.

SUPPLEMENTARY INFORMATION: The Pacific Council has announced the schedule of reports, public meetings, and hearings for the 2019 ocean salmon fisheries on its website (http://www.pcouncil.org). The Pacific Council will adopt alternatives for 2019 ocean salmon fisheries at its March 5-12, 2019, meeting at the Hilton, Vancouver, WA. Details of this meeting are available on the Pacific Council's website (http://www.pcouncil.org). On March 21, 2019, “Preseason Report II—Proposed Alternatives and Environmental Assessment Part 2 for 2019 Ocean Salmon Fishery Regulations” is scheduled to be posted on the Pacific Council website at http://www.pcouncil.org. The report will include a description of the salmon management alternatives and a summary of their biological and economic impacts. Public hearings will be held to receive comments on the proposed ocean salmon fishery management alternatives adopted by the Pacific Council. Written comments received at the public hearings and a summary of oral comments at the hearings will be provided to the Pacific Council at its April meeting.

All public hearings begin at 7 p.m. at the following locations:

• March 25, 2019: Chateau Westport, Beach Room, 710 West Hancock, Westport, WA 98595, telephone 360-268-9101.

• March 25, 2019: Red Lion Hotel, South Umpqua Room, 1313 North Bayshore Drive, Coos Bay, OR 97420, telephone 541-267-4141.

• March 26, 2019: Hampton Inn, Grand Ballroom, 1160 Airport Park Blvd., Ukiah, CA 95482, telephone 707-462-6555.

Comments on the alternatives the Pacific Council adopts at its March 2019 meeting, and described in its Preseason Report II, may be submitted in writing or electronically as described under ADDRESSES, or verbally or in writing at any of the public hearings held on March 25-26, 2019, or at the Pacific Council's meeting, April 9-16, 2019, at the Doubletree by Hilton Sonoma, in Rohnert Park, CA. Details of these meetings will be available on the Pacific Council's website (http://www.pcouncil.org) and will be published in the Federal Register. Written and electronically submitted comments must be received no later than 5 p.m. Pacific Time, April 1, 2019, in order to be included in the briefing book for the April Council meeting where they will be considered in the adoption of the Pacific Council's final recommendation for the 2019 salmon fishery management measures. All comments received accordingly will be reviewed and considered by the Pacific Council and NMFS.

Authority: 16 U.S.C. 1801 et seq.

Dated: February 11, 2019.
Karen H. Abrams,
Acting Director, Office of Sustainable Fisheries, National Marine Fisheries Service.

[FR Doc. 2019-02329 Filed 2-13-19; 8:45 am]

BILLING CODE 3510-22-P